DEPARTMENT OF HEALTH AND HUMAN SERVICES

Food and Drug Administration

21 CFR Chapter 1

Change of Name; Technical Amendment

AGENCY: Food and Drug Administration, HHS.

ACTION: Final rule; technical amendment.

SUMMARY: The Food and Drug Administration (FDA) is amending its regulations to reflect a change in the name of the Dockets Management Branch to the Division of Dockets Management. This action is editorial in nature and is intended to improve the accuracy of the agency's regulations.

DATES: Effective March 30, 2004.

FOR FURTHER INFORMATION CONTACT: Joyce A. Strong, Office of Policy and Planning (HF-27), Food and Drug Administration, 5600 Fishers Lane, Rockville, MD 20857, 301-827-7010.

SUPPLEMENTARY INFORMATION: This document amends FDA's regulations to reflect the Dockets Management Branch address change by removing the entire outdated name wherever it appears and by adding the new name in its place in 21 CFR parts 3, 5, 7, 10, 12, 13, 14, 15, 17, 20, 25, 60, 100, 101, 109, 170, 184, 201, 312, 314, 316, 328, 330, 341, 355, 369, 500, 509, 520, 522, 558, 570, 601, 740, 808, 812, 814, 860, 861, 895, 900, 1010, 1030, 1240, and 1250.

Publication of this document constitutes final action on these changes under the Administrative Procedure Act (5 U.S.C. 553). Notice and public procedure are unnecessary because FDA is merely correcting nonsubstantive errors.

Therefore, under the Federal Food, Drug, and Cosmetic Act and under authority delegated to the Commissioner of Food and Drugs, 21 CFR chapter I is amended as follows:

Chapter I—[Amended]

1. Parts 3, 5, 7, 10, 12, 13, 14, 15, 17, 25, 60, 100, 101, 109, 170, 184, 201, 312, 314, 316, 328, 330, 341, 355, 369, 500, 509, 520, 522, 558, 570, 601, 740, 808, 812, 814, 860, 861, 895, 900, 1010, 1030, 1240, and 1250 are amended by removing “Dockets Management Branch” wherever it appears and by adding in its place “Division of Dockets Management”.

2. Parts 20, 170, 570, and 860 are amended by removing “Dockets Management Branch's” wherever it appears and by adding in its place “Division of Dockets Management's”.

Dated: March 17, 2004.
Jeffrey Shuren,
Assistant Commissioner for Policy.

[FR Doc. 04-6482 Filed 3-23-04; 8:45 am]

BILLING CODE 4160-01-S